DEPARTMENT OF TRANSPORTATION

Pipeline and Hazardous Materials Safety Administration

[Docket: PHMSA-2007-0056]

Pipeline Safety: Agency Information Collection Activities: Notice of Request for Extension of Currently Approved Information Collections

AGENCY: Pipeline and Hazardous Materials Safety Administration (PHMSA), U.S. Department of Transportation (DOT).

ACTION: Notice and request for comments.

SUMMARY: In compliance with the Paperwork Reduction Act of 1995 (PRA), this notice announces that PHMSA is forwarding an Information Collection Request to the Office of Management and Budget (OMB) for the renewal and extension of four existing information collections. On May 22, 2008 (73 FR 29846), PHMSA published a Federal Register notice soliciting comments on these information collections. No comments were received. The purpose of this notice is to allow the public an additional 30 days to submit comments on the information collections described below.

DATES: Interested persons are invited to submit comments on or before October 10, 2008.

ADDRESSES: Send comments directly to the Office of Management and Budget, Office of Information and Regulatory Affairs, Attn: Desk Officer for the Department of Transportation, 725 17th Street, NW., Washington, DC 20503.

FOR FURTHER INFORMATION CONTACT: Cameron Satterthwaite at (202) 366-1319, or by e-mail at cameron.satterthwaite@dot.gov.

SUPPLEMENTARY INFORMATION: Section 1320.8(d), Title 5, Code of Federal Regulations requires PHMSA to provide interested members of the public and affected agencies an opportunity to comment on information collection and recordkeeping requests. This notice identifies information collection requests that PHMSA will be submitting to OMB for renewal and extension. These information collections are contained in the pipeline safety regulations, 49 CFR parts 190-199. PHMSA has revised burden estimates, where appropriate, to reflect current reporting levels or adjustments based on changes in proposed or final rules published since the information collections were last approved. The following information is provided for each information collection: (1) Title of the information collection; (2) OMB control number; (3) type of request; (4) abstract of the information collection activity; (5) description of affected public; (6) estimate of total annual reporting and recordkeeping burden; and (7) frequency of collection. PHMSA will request a three-year term of approval for each information collection activity.

PHMSA requests comments on the following information collections:

Title: Pipeline Safety: Excess Flow Valves—Customer Notification.

OMB Control Number: 2137-0593.

Type of Request: Renewal of a currently approved information collection.

Abstract: Pipeline operators are required to provide notifications about excess flow valves to service line customers as described in 49 CFR 192.383. Upon request, an operator must make documentation of compliance available to PHMSA or the appropriate State regulatory agency.

Estimated number of respondents: 900,000.

Estimated annual burden hours: 18,000 hours.

Frequency of collection: On occasion.

Title: Pipeline Safety: Customer-Owned Service Lines.

OMB Control Number: 2137-0594.

Type of Request: Renewal of a currently approved information collection.

Abstract: Operators of gas service lines who do not maintain certain buried piping of their customers must provide notification about maintenance to those customers (49 CFR 192.16). Upon request, an operator must make documentation of compliance available to PHMSA or the appropriate State regulatory agency.

Estimated number of respondents: 550,000.

Estimated annual burden hours: 9,167 hours.

Frequency of collection: On occasion.

Title: Pipeline Safety: Qualification of Pipeline Safety, Training.

OMB Control Number: 2137-0600.

Type of Request: Renewal of a currently approved information collection.

Abstract: Pipeline operators are required to have continuing programs for qualifying and training personnel performing safety-sensitive functions on pipelines. (49 CFR part 192, subpart N and 49 CFR part 195, subpart G). Operators must maintain records, make reports, and provide information to PHMSA and State pipeline safety agencies concerning these programs. The information aids Federal and State pipeline safety inspectors in conducting compliance inspections and investigating incidents.

Estimated number of respondents: 22,300.

Estimated annual burden hours: 466,667 hours.

Frequency of collection: On occasion.

Title: Pipeline Safety Report of Abandoned Underwater Pipelines.

OMB Control Number: 2137-0601.

Type of Request: Renewal of a currently approved information collection.

Abstract: Pipeline operators are required to report certain information about abandoned underwater pipelines to PHMSA. The information aids Federal and State pipeline safety inspectors in conducting compliance inspections and investigating incidents.

Estimated number of respondents: 10.

Estimated annual burden hours: 60 hours.

Frequency of collection: On occasion.

Issued in Washington, DC on September 4, 2008.
John A. Gale,
Director of Regulations, Office of Pipeline Safety.

[FR Doc. E8-20973 Filed 9-9-08; 8:45 am]

BILLING CODE 4910-60-P